DEPARTMENT OF TRANSPORTATION

Federal Aviation Administration

Membership in the National Parks Overflights Advisory Group Aviation Rulemaking Committee

ACTION: Notice.

SUMMARY: By Federal Register notice (See 75 FR 68023; November 4, 2010) the National Park Service (NPS) and the Federal Aviation Administration (FAA) invited interested persons to apply to fill two vacant positions on the National Parks Overflights Advisory Group (NPOAG) Aviation Rulemaking Committee (ARC). These notices invited interested persons to apply to fill two vacancies representing environmental concerns due to the incumbent member's completion of their three-year term appointments on May 30, 2011. This notice informs the public of the persons selected to fill the vacancies on the NPOAG ARC.

FOR FURTHER INFORMATION CONTACT: Barry Brayer, Special Programs Staff, Federal Aviation Administration, Western-Pacific Region Headquarters, P.O. Box 92007, Los Angeles, CA 90009-2007, telephone: (310) 725-3800, e-mail: Barry.Brayer@faa.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American interests. Current members of the NPOAG ARC are as follows:

Heidi Williams representing general aviation; Alan Stephen, Elling Halvorson, and Matthew Zuccaro representing commercial air tour operations; Chip Dennerlein, Greg Miller, Kristen Brengel, and Bryan Faehner representing environmental interests; and Rory Majenty and Ray Russell representing Native American tribes.

Selection

Selected to fill one of the vacancies for environmental concerns, for an additional term, is returning member Bryan Faehner. Selected to fill the other vacancy for environmental concerns is Dick Hingson, who will replace Kristen Brengel. Both these terms begin on May 31, 2011. The term of service for NPOAG ARC members is 3 years.

Issued in Hawthorne, CA, on February 10, 2011.
Barry Brayer,
Manager, Special Programs Staff, Western-Pacific Region.

[FR Doc. 2011-3938 Filed 2-22-11; 8:45 am]

BILLING CODE 4910-13-P